DEPARTMENT OF AGRICULTURE

Animal and Plant Health Inspection Service

[Docket No. APHIS-2014-0078]

Availability of an Environmental Assessment and Finding of No Significant Impact for a Biological Control Agent for Asian Citrus Psyllid in the Contiguous United States

AGENCY: Animal and Plant Health Inspection Service, USDA.

ACTION: Notice.

SUMMARY: We are advising the public that the Animal and Plant Health Inspection Service has prepared an environmental assessment and finding of no significant impact relative to the release of Diaphorencyrtus aligarhensis for the biological control of the Asian citrus psyllid, Diaphorina citri, in the contiguous United States. Based on this finding of no significant impact, the Animal and Plant Health Inspection Service has determined that an environmental impact statement need not be prepared.

FOR FURTHER INFORMATION CONTACT: Dr. Shirley A Wager-Pagé, Assistant Director, Pest Permitting Branch, Registration, Identification, Permitting, and Plant Safeguarding, PPQ, APHIS, 4700 River Road Unit 133, Riverdale, MD 20737-1236; (301) 851-2323.

SUPPLEMENTARY INFORMATION: The Asian citrus psyllid (Diaphorina citri; ACP), can cause economic damage to citrus in groves and nurseries by direct feeding. Both adults and nymphs feed on young foliage, depleting the sap and causing galling or curling of leaves. High populations feeding on a citrus shoot can kill the growing tip.

ACP's primary threat to citrus, however, is not as a direct plant pest, but as an efficient vector of the bacterial pathogen that causes citrus greening. Also known as Huanglongbing (HLB), citrus greening is considered to be one of the most serious citrus diseases in the world. HLB is a bacterial disease, caused by strains of the bacterial pathogen “Candidatus Liberibacter asiaticus,” that attacks the vascular system of host plants. The pathogen is phloem-limited, inhabiting the food-conducting tissue of the host plant, and causes yellow shoots, blotchy mottling and chlorosis, reduced foliage, and tip dieback of citrus plants. HLB greatly reduces production, destroys the economic value of the fruit, and can kill trees. Once infected, there is no cure for a tree with HLB. In areas of the world where the disease is endemic, citrus trees decline and die within a few years and may never produce usable fruit.

ACP is currently present in Alabama, American Samoa, Florida, Georgia, Guam, Hawaii, Louisiana, Mississippi, the Northern Mariana Islands, Puerto Rico, Texas, the U.S. Virgin Islands, and portions of Arizona, California, and South Carolina.

The Animal and Plant Health Inspection Service (APHIS) is proposing to issue permits for the field release of a parasitic wasp, Diaphorencyrtus aligarhensis, to reduce the severity of infestations of ACP in the United States and retard the spread of HLB.

On September 18, 2014, we published in the Federal Register (79 FR 56050, Docket No. APHIS-2014-0078) a notice ¹ in which we announced the availability, for public review and comment, of an environmental assessment (EA) that examined the potential environmental impacts associated with the proposed release of this biological control agent into the contiguous United States.

¹ To view the notice, the comments we received, the EA, or the FONSI, go to http://www.regulations.gov/#!docketDetail;D=APHIS-2014-0078.

We solicited comments on the EA for 30 days ending October 20, 2014. We received 16 comments by that date. They were from an organization representing State departments of agriculture, an agricultural commission, an organization engaged in citrus research, an advocacy group for organic farming, citrus producers, pesticide applicators, and private citizens.

One commenter stated her opposition to the proposed release of D. aligarhensis, but did not provide any substantive information or specific concerns.

Another commenter stated that the EA had failed to take into consideration the possibility that D. aligarhensis will parasitize non-target insects. However, as another commenter pointed out, the EA did in fact analyze such possible parasitization.

The remaining commenters supported the proposed release.

In this document, we are advising the public of our finding of no significant impact (FONSI) regarding the release of D. aligarhensis into the contiguous United States for use as a biological control agent for ACP. The finding, which is based on the EA, reflects our determination that release of this biological control agent will not have a significant impact on the quality of the human environment.

The EA and FONSI may be viewed on the Regulations.gov Web site (see footnote 1). Copies of the EA and FONSI are also available for public inspection at USDA, Room 1141, South Building, 14th Street and Independence Avenue SW., Washington, DC, between 8 a.m. and 4:30 p.m., Monday through Friday, except holidays. Persons wishing to inspect copies are requested to call ahead to (202) 799-7039 to facilitate entry into the reading room. In addition, copies may be obtained by calling or writing to the individual listed under FOR FURTHER INFORMATION CONTACT.

The EA and FONSI have been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 5th day of December 2014.
Kevin Shea,
Administrator, Animal and Plant Health Inspection Service.

[FR Doc. 2014-29113 Filed 12-11-14; 8:45 am]

BILLING CODE 3410-34-P